DEPARTMENT OF COMMERCE

National Oceanic and Atmospheric Administration

RIN 0648-XV067

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Monday, October 7, 2019, from 9 a.m. to 5 p.m.; Tuesday, October 8, 2019. from 9 a.m. to 5 p.m.; Wednesday, October 9, 2019, from 9 a.m. to 5 p.m.; and, Thursday, October 10, 2019, from 9 a.m. to 1 p.m. For agenda details, see SUPPLEMENTARY INFORMATION.

ADDRESSES: The meeting will be held at the Durham Convention Center, 301 W. Morgan St., Durham, NC 27701; telephone: (919) 956-9404.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The following items are on the agenda, though agenda items may be addressed out of order (changes will be noted on the Council's website when possible.)

Monday, October 7, 2019

Executive Committee (Closed Session)

Review and approve changes to SOPPs

Executive Committee Meeting

Review progress on 2019 Implementation Plan and develop recommendations for 2020 priorities

Monkfish Specifications

Summary of Operational Assessment and review SSC, PDT, Advisory Panel and staff recommendations and adopt specifications for 2020-22

Spiny Dogfish Specifications

Review, SSC, Monitoring Committee, Advisory Panel, and staff recommendations for 2020 specifications and recommend any changes if necessary

Illex Permitting and Atlantic Mackerel, Squid, Butterfish Goals and Objectives Amendment

Review Committee recommendations and provide direction to staff on Amendment development

Illex In-Year Quota Adjustment Working Group

Review Working Group Terms of Reference

2020-24 Comprehensive Research Priorities

Review and provide feedback on draft research priorities

Tuesday, October 8, 2019

Summary of Operational Assessments for Scup, Black Sea Bass, and Bluefish Bluefish Specifications

Review SSC, Monitoring Committee, Advisory Panel, and staff recommendations and adopt revised specifications for 2020 and new specifications for 2021

Bluefish Allocation Amendment

Discuss current status of the Bluefish Allocation Amendment and review the updated action plan

Scup Commercial Discards Report

Review commercial scup discards through 2018

Scup Specifications

Review SSC, Monitoring Committee, Advisory Panel, and staff recommendations and adopt revised specifications for 2020 and new specifications for 2021

Summer Flounder Specifications

Review SSC, Monitoring Committee, Advisory Panel, and staff recommendations for 2020 specifications and review previously implemented 2020 specifications and recommend changes if necessary

Wednesday, October 9, 2019

Black Sea Bass Specifications

Review SSC, Monitoring Committee, Advisory Panel, and staff recommendations and adopt revised specifications for 2020 and new specifications for 2021

Summer Flounder, Scup, and Black Sea Bass Commercial/Recreational Allocations

Discuss implications of revised MRIP data for sector allocations defined in FMP's and consider initiating an amendment to address commercial and recreational allocations for all three species

Potential Black Sea Bass Commercial Amendment

Update on ASMFC discussions regarding state-by-state commercial quota allocations and consider initiating an amendment to address black sea bass commercial state-by state allocations

Recreational Reform Initiative

Progress update on recreational management reform initiative focused on black sea bass, summer flounder, scup, and bluefish

2020-24 Strategic Plan

Review draft 2020-24 Strategic Plan

Thursday, October 10, 2019

Business Session

Committee Reports: SSC and Executive (review and approve SOPP recommendations); Executive Director's Report; Organization Reports; and, Liaison Reports

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Authority: 16 U.S.C. 1801 et seq.

Dated: September 11, 2019.
Tracey L. Thompson,
Acting Deputy Director, Office of Sustainable Fisheries, National Marine Fisheries Service.

[FR Doc. 2019-19958 Filed 9-13-19; 8:45 am]

BILLING CODE 3510-22-P